COMMITTEE FOR THE IMPLEMENTATION OF TEXTILE AGREEMENTS

Adjustment of Import Limits for Certain Cotton, Wool, Man-Made Fiber, Silk Blend and Other Vegetable Fiber Textiles and Textile Products Produced or Manufactured in Indonesia

March 31, 2004.

AGENCY: Committee for the Implementation of Textile Agreements (CITA).

ACTION: Issuing a directive to the Commissioner, Bureau of Customs and Border Protection adjusting limits.

EFFECTIVE DATE: April 6, 2004.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the Bureau of Customs and Border Protection website at http://www.cbp.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The current limits for certain categories are being adjusted for swing, carryover, special shift, and the recrediting of unused 2003 carryforward.

A description of the textile and apparel categories in terms of HTS numbers is available in the CORRELATION: Textile and Apparel Categories with the Harmonized Tariff Schedule of the United States (see Federal Register notice 69 FR 4926, published on February 2, 2004). Also see 68 FR 65254, published on November 19, 2003.

James C. Leonard III,
Chairman, Committee for the Implementation of Textile Agreements.

Committee for the Implementation of Textile Agreements

March 31, 2004.

Commissioner,

Bureau of Customs and Border Protection, Washington, DC 20229.

Dear Commissioner: This directive amends, but does not cancel, the directive issued to you on November 11, 2003, by the Chairman, Committee for the Implementation of Textile Agreements. That directive concerns imports of certain cotton, wool, man-made fiber, silk blend and other vegetable fiber textiles and textile products, produced or manufactured in Indonesia and exported during the twelve-month period which began on January 1, 2004 and extends through December 31, 2004.

Effective on April 6, 2004, you are directed to adjust the limits for the categories listed below, as provided for under the Uruguay Round Agreement on Textiles and Clothing:

Category | Twelve-month restraint limit ¹
Levels in Group I |
200 | 1,640,190 kilograms.
219 | 18,219,902 square meters.
225 | 12,758,657 square meters.
300/301 | 7,331,996 kilograms.
313-O ² | 34,007,290 square meters.
314-O ³ | 112,802,509 square meters.
315-O ⁴ | 44,473,885 square meters.
317-O ⁵/617/326-O ⁶ | 35,661,309 square meters of which not more than 7,485,760 square meters shall be in Category 326-O.
331pt./631pt. ⁷ | 2,053,935 dozen pairs.
334/335 | 430,161 dozen.
336/636 | 1,201,542 dozen.
338/339 | 2,418,315 dozen.
340/640 | 2,932,054 dozen.
341 | 1,797,447 dozen.
342/642 | 715,200 dozen.
345 | 876,474 dozen.
347/348 | 3,276,042 dozen.
351/651 | 989,569 dozen.
359-C/659-C ⁸ | 2,693,495 kilograms.
359-S/659-S ⁹ | 3,014,055 kilograms.
360 | 2,432,435 numbers.
361 | 2,432,435 numbers.
369-S ¹⁰ | 1,740,405 kilograms.
433 | 12,565 dozen.
443 | 93,220 numbers.
445/446 | 69,961 dozen.
447 | 19,559 dozen.
448 | 26,871 dozen.
604-A ¹¹ | 1,360,774 kilograms.
611-O ¹² | 3,488,777 square meters.
613/614/615 | 48,057,601 square meters.
618-O ¹³ | 6,341,029 square meters.
619/620 | 17,578,593 square meters.
625/626/627/628/629-O ¹⁴ | 49,136,300 square meters.
634/635 | 572,159 dozen.
638/639 | 2,555,293 dozen.
641 | 4,285,055 dozen.
643 | 630,845 numbers.
644 | 824,392 numbers.
645/646 | 1,492,112 dozen.
647/648 | 5,956,332 dozen.
Group II |
201, 218, 220, 224, 226, 227, 237, 239pt. ¹⁵, 332, 333, 352, 359-O ¹⁶, 362, 363, 369-O ¹⁷, 400, 410, 414, 434, 435, 436, 438, 440, 442, 444, 459pt. ¹⁸, 469pt. ¹⁹, 603, 604-O ²⁰, 624, 633, 652, 659-O ²¹, 666pt. ²², 845, 846 and 852, as a group | 181,962,672 square meters equivalent.
Subgroup in Group II |
400, 410, 414, 434, 435, 436, 438, 440, 442, 444, 459pt. and 469pt., as a group | 3,684,947 square meters equivalent.
In Group II subgroup |
435 | 57,853 dozen.
¹ The limits have not been adjusted to account for any imports exported after December 31, 2003.
² Category 313-O: all HTS numbers except 5208.52.3035, 5208.52.4035 and 5209.51.6032.
³ Category 314-O: all HTS numbers except 5209.51.6015.
⁴ Category 315-O: all HTS numbers except 5208.52.4055.
⁵ Category 317-O: all HTS numbers except 5208.59.2085.
⁶ Category 326-O: all HTS numbers except 5208.59.2015, 5209.59.0015 and 5211.59.0015.
⁷ Category 331pt.: all HTS numbers except 6116.10.1720, 6116.10.4810, 6116.10.5510, 6116.10.7510, 6116.92.6410, 6116.92.6420, 6116.92.6430, 6116.92.6440, 6116.92.7450, 6116.92.7460, 6116.92.7470, 6116.92.8800, 6116.92.9400 and 6116.99.9510; Category 631pt.: all HTS numbers except 6116.10.1730, 6116.10.4820, 6116.10.5520, 6116.10.7520, 6116.93.8800, 6116.93.9400, 6116.99.4800, 6116.99.5400 and 6116.99.9530.
⁸ Category 359-C: only HTS numbers 6103.42.2025, 6103.49.8034, 6104.62.1020, 6104.69.8010, 6114.20.0048, 6114.20.0052, 6203.42.2010, 6203.42.2090, 6204.62.2010, 6211.32.0010, 6211.32.0025 and 6211.42.0010; Category 659-C: only HTS numbers 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017 and 6211.43.0010.
⁹ Category 359-S: only HTS numbers 6112.39.0010, 6112.49.0010, 6211.11.8010, 6211.11.8020, 6211.12.8010 and 6211.12.8020; Category 659-S: only HTS numbers 6112.31.0010, 6112.31.0020, 6112.41.0010, 6112.41.0020, 6112.41.0030, 6112.41.0040, 6211.11.1010, 6211.11.1020, 6211.12.1010 and 6211.12.1020.
¹⁰ Category 369-S: only HTS number 6307.10.2005.
¹¹ Category 604-A: only HTS number 5509.32.0000.
¹² Category 611-O: all HTS numbers except 5516.14.0005, 5516.14.0025 and 5516.14.0085.
¹³ Category 618-O: all HTS numbers except 5408.24.9010 and 5408.24.9040.
¹⁴ Category 625/626/627/628; Category 629-O: all HTS numbers except 5408.34.9085 and 5516.24.0085.
¹⁵ Category 239pt.: only HTS number 6209.20.5040 (diapers).
¹⁶ Category 359-O: all HTS numbers except 6103.42.2025, 6103.49.8034, 6104.62.1020, 6104.69.8010, 6114.20.0048, 6114.20.0052, 6203.42.2010, 6203.42.2090, 6204.62.2010, 6211.32.0010, 6211.32.0025 and 6211.42.0010 (Category 359-C); 6112.39.0010, 6112.49.0010, 6211.11.8010, 6211.11.8020, 6211.12.8010 and 6211.12.8020 (Category 359-S); 6115.19.8010, 6117.10.6010, 6117.20.9010, 6203.22.1000, 6204.22.1000, 6212.90.0010, 6214.90.0010, 6406.99.1550, 6505.90.1525, 6505.90.1540, 6505.90.2060 and 6505.90.2545 (Category 359pt.).
¹⁷ Category 369-O: all HTS numbers except 6307.10.2005 (Category 369-S); 4202.12.4000, 4202.12.8020, 4202.12.8060, 4202.22.4020, 4202.22.4500, 4202.22.8030, 4202.32.4000, 4202.32.9530, 4202.92.0805, 4202.92.1500, 4202.92.3016, 4202.92.6091, 5601.10.1000, 5601.21.0090, 5701.90.1020, 5701.90.2020, 5702.10.9020, 5702.39.2010, 5702.49.1020, 5702.49.1080, 5702.59.1000, 5702.99.1010, 5702.99.1090, 5705.00.2020, 5805.00.3000, 5807.10.0510, 5807.90.0510, 6301.30.0010, 6301.30.0020, 6302,51.1000, 6302.51.2000, 6302.51.3000, 6302.51.4000, 6302.60.0010, 6302.60.0030, 6302.91.0005, 6302.91.0025, 6302.91.0045, 6302.91.0050, 6302.91.0060, 6303.11.0000, 6303.91.0010, 6303.91.0020, 6304.91.0020, 6304.92.0000, 6305.20.0000, 6306.11.0000, 6307.10.1020, 6307.10.1090, 6307.90.3010, 6307.90.4010, 6307.90.5010, 6307.90.8910, 6307.90.8945, 6307.90.9882, 6406.10.7700, 9404.90.1000, 9404.90.8040 and 9404.90.9505 (Category 369pt.).
¹⁸ Category 459pt.: all HTS numbers except 6115.19.8020, 6117.10.1000, 6117.10.2010, 6117.20.9020, 6212.90.0020, 6214.20.0000, 6405.20.6030, 6405.20.6060, 6405.20.6090, 6406.99.1505 and 6406.99.1560.
¹⁹ Category 469pt.: all HTS numbers except 5601.29.0020, 5603.94.1010, 6304.19.3040, 6304.91.0050, 6304.99.1500, 6304.99.6010, 6308.00.0010 and 6406.10.9020.
²⁰ Category 604-O: all HTS numbers except 5509.32.0000 (Category 604-A).
²¹ Category 659-O: all HTS numbers except 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017, 6211.43.0010 (Category 659-C); 6112.31.0010, 6112.31.0020, 6112.41.0010, 6112.41.0020, 6112.41.0030, 6112.41.0040, 6211.11.1010, 6211.11.1020, 6211.12.1010, 6211.12.1020 (Category 659-S); 6115.11.0010, 6115.12.2000, 6117.10.2030, 6117.20.9030, 6212.90.0030, 6214.30.0000, 6214.40.0000. 6406.99.1510 and 6406.99.1540 (Category 659pt.).
²² Category 666pt.: all HTS numbers except 5805.00.4010, 6301.10.0000, 6301.40.0010, 6301.40.0020, 6301.90.0010, 6302.53.0010, 6302.53.0020, 6302.53.0030, 6302.93.1000, 6302.93.2000, 6303.12.0000, 6303.19.0010, 6303.92.1000, 6303.92.2010, 6303.92.2020, 6303.99.0010, 6304.11.2000, 6304.19.1500, 6304.19.2000, 6304.91.0040, 6304.93.0000, 6304.99.6020, 6307.90.9884, 9404.90.8522 and 9404.90.9522.

The Committee for the Implementation of Textile Agreements has determined that these actions fall within the foreign affairs exception to the rulemaking provisions of 5 U.S.C. 553(a)(1).

Sincerely,

James C. Leonard III,

Chairman, Committee for the Implementation of Textile Agreements.

[FR Doc. 04-7753 Filed 4-5-04; 8:45 am]

BILLING CODE 3510-DR-S